DEPARTMENT OF TRANSPORTATION

Coast Guard

[USCG-2000-6847]

Information Collection Under Review by the Office of Management and Budget (OMB): 2115-0053, 2115-0025, and 2115-0607

AGENCY: Coast Guard, DOT.

ACTION: Request for comments.

SUMMARY: In compliance with the Paperwork Reduction Act of 1995, this request for comments announces that the Coast Guard has forwarded the three Information Collection Reports (ICRs) abstracted below to OMB for review and comment. Our ICRs describe the information that we seek to collect from the public. Review and comment by OMB ensure that we impose only paperwork burdens commensurate with our performance of duties.

DATES: Please submit comments on or before June 5, 2000.

ADDRESSES: Please send comments to both (1) the Docket Management System (DMS), U.S. Department of Transportation (DOT), room PL-401, 400 Seventh Street SW, Washington, DC 20590-0001, and (2) the Office of Information and Regulatory Affairs (OIRA), Office of Management and Budget (OMB), 725 17th Street NW, Washington, DC 20503, to the attention of the Desk Officer for the USCG.

Copies of the complete ICRs are available for inspection and copying in public docket USCG-2000-6847 of the Docket Management Facility between 10 a.m. and 5 p.m., Monday through Friday, except Federal holidays; for inspection and printing on the internet at http://dms.dot.gov; and for inspection from the Commandant (G-SII-2), U.S. Coast Guard, room 6106, 2100 Second Street SW, Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION:

Regulatory History

This request constitutes the 30-day notice required by OMB. The Coast Guard has already published [65 FR 7094 (February 11, 2000)] the 60-day notice required by OMB. That request elicited the following comments.

The comment concerned ICR 2115-0025—Oil Record Book for Ships. It suggested the following changes to the Oil Record Book for Ships: (1) “On page 13 the instructions say to ‘circle one' and then present the choice of cargo/ballast of machinery space. On the remaining pages there is no choice given.” (2) “Under the code and item numbers for tankers, the instructions under the letter K lists the operations to be documented when discharging clean ballast. These operations are written to confirm [sic] to Marpol regulations where clean ballast does not have to be monitored. Under 33 CFR 157.43 clean ballast [sic] discharges must go thru the cargo monitor. It would follow that a listed operation such as H 37 ‘[sic] Was the discharge monitoring and control system in operation' should be included under H.”

The Coast Guard has reviewed and concurs with the first suggested change and will make the corrections when the book is revised. While the second suggestion is a good one, the Coast Guard will consider it when it reviews the book for the next revision. On April 6, 2000, we replied to the commentor and sent copies to OMB.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG-2000-6847. Comments to OIRA are best assured of having their full effect if OIRA receives them 30 or fewer days after the publication of this request.

Information Collection Requests

1. Title: Request for Designation and Exemption of Oceanographic Research Vessels.

OMB Control Number: 2115-0053.

Type of Request: Extension of currently approved collection.

Affected Public: Owner or operator of vessel.

Form(s): N/A.

Abstract: This information is necessary to ensure that a vessel qualifies for the designation.

Annual Estimated Burden Hours: The estimated burden is 29 hours annually.

2. Title: Oil Record Book for Ships.

OMB Control Number: 2115-0025.

Type of Request: Extension of a currently approved collection.

Affected Public: Operators of vessels.

Forms: N/A.

Abstract: The Act to Prevent Pollution from Ships (APPS) and the International Convention for Prevention of Pollution from Ships, 1973, as modified by the 1978 Protocol relating thereto (MARPOL 73/78), require that information about oil (cargo or fuel) be entered into an Oil Record Book (CG-4602A). The requirement appears at 33 CFR 151.25.

Annual Estimated Burden Hours: The estimated burden is 35,828 hours annually.

3. Title: Vessel Identification System.

OMB Control Number: 2115-0607.

Type of Request: Extension of a currently approved collection.

Affected Public: Governments of States and territories.

Forms: N/A.

Abstract: The Secretary of Transportation must establish a nationwide vessel-identification system (VIS) and centralize certain vessel-documentation functions. VIS provides participating States and territories with access to their own data on numbered vessels. Participation in VIS is voluntary.

Annual Estimated Burden Hours: The estimated burden is 5,697 hours annually.

Forms: N/A.

Abstract: To protect marine workers from exposure to toxic Benzene vapor, the Coast Guard implemented 46 CFR part 197, subpart C.

Annual Estimated Burden Hours: The estimated burden is 5,697 hours annually.

Dated: April 19, 2000.
Daniel F. Sheehan,
Director of Information and Technology.

[FR Doc. 00-11157 Filed 5-3-00; 8:45 am]

BILLING CODE 4910-15-P